ENVIRONMENTAL PROTECTION AGENCY

[OPPT-2002-0003; FRL-6832-4]

Forum on State and Tribal Toxics Action; Notice of Public Meeting

AGENCY: Environmental Protection Agency (EPA).

ACTION: Notice.

SUMMARY: EPA is announcing the spring meeting of the Forum on State and Tribal Toxics Action (FOSTTA) to collaborate on environmental protection and chemical and prevention issues. The Chemical Information and Management, Pollution Prevention, and Tribal Affairs Projects, components of FOSTTA, will hold meetings May 14-15, 2002. The Toxics Release Inventory Project will not be participating in these meetings. This notice announces the location and times for the meetings and sets forth some tentative agenda topics. EPA invites all interested parties to attend the public meetings.

DATES: The three projects will meet concurrently May 14, 2002, from 10 a.m. to 5 p.m. and May 15, 2002, from 8 a.m. to noon. A plenary session is being planned for the participants on Tuesday, May 14, 2002, from 8 a.m. to 9:30 a.m.

Requests to participate in the spring FOSTTA meeting must be received by EPA on or before May 9, 2002. Your request must be submitted by mail or electronically to one of the technical persons listed under FOR FURTHER INFORMATION CONTACT.

ADDRESSES: The meetings will be held at the Crystal City Marriott, 1999 Jefferson Davis Highway, Arlington, VA. The hotel is located at the Crystal City metro stop on the blue and yellow lines.

You may respond to this notice by mail, electronically, or in person. Please follow the detailed instructions for each method as provided in Unit I. of the SUPPLEMENTARY INFORMATION. To ensure proper receipt by EPA, it is imperative that you identify docket control number OPPT-2002-0003.

FOR FURTHER INFORMATION CONTACT: For general information contact: Barbara Cunningham, Acting Director, Environmental Assistance Division (7408M), Office of Pollution Prevention and Toxics, Environmental Protection Agency, 1200 Pennsylvania Ave., NW., Washington, DC 20460; telephone number: (202) 554-1404; e-mail address: TSCA-Hotline@epa.gov.

For technical information contact: Darlene Harrod, Environmental Assistance Division (7408M), Office of Pollution Prevention and Toxics, Environmental Protection Agency, 1200 Pennsylvania Ave., NW., Washington, DC 20460; telephone number: (202) 564-8814; fax number: (202) 564-8813; e-mail address: harrod.darlene@epa.gov.

Christine Eppstein, Environmental Council of the States, 444 North Capitol St., NW., Suite 445, Washington, DC 20001; telephone number: (202) 624-3661; fax number: (202) 624-3666; e-mail address: ceppstein@sso.org.

SUPPLEMENTARY INFORMATION:

I. General Information

A. Does this Action Apply to Me?

This action is directed to the public in general. This action may, however, be of interest to all parties interested in FOSTTA and hearing more about the perspectives of the states and tribes on EPA programs and information exchange regarding important issues related to human health and environmental exposure to toxics. Since other entities may be interested, the Agency has not attempted to describe all the specific entities that may be affected by this action. However, in the interest of time and efficiency, the meetings are structured to provide maximum opportunity for state, tribal, and EPA participants to discuss items on the predetermined agenda. At the discretion of the chair, an effort will be made to accommodate participation by observers attending the proceedings. If you have any questions regarding the applicability of this action to a particular entity, consult the technical persons listed under FOR FURTHER INFORMATION CONTACT.

B. How Can I Get Additional Information, Including Copies of this Document or Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket control number OPPT-2002-0003. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

II. Background

The Toxic Substances Control Act, 15 U.S.C. 2609 section 10(g), authorizes EPA and other federal agencies to establish and coordinate a system for exchange among federal, state, and local authorities of research and development results respecting toxic chemical substances and mixtures, including a system to facilitate and promote the development of standard data format and analysis and consistent testing procedures. Through FOSTTA, the Chemical Information and Management Project (CIMP) focuses on EPA's Chemical Right-to-Know Program and works to develop a more coordinated effort involving federal, state, and tribal agencies. The Pollution Prevention Project (P2) promotes the prevention ethic across society, helping companies incorporate P2 approaches and techniques and integrating P2 into mainstream environmental activities at both the federal level and among the states. Under the Emergency Planning and Community Right-to-Know Act, EPA, the states, and the tribes share responsibility for handling toxic chemical release information and making it available to the public through the Toxics Release Inventory. The Tribal Affairs Project (TAP) concentrates on chemical and prevention issues that are most relevant to the tribes, including lead control and abatement, subsistence lifestyles, and hazard communications and outreach. FOSTTA's vision is to reinvigorate the projects, focus on major policy-level issues, recruit more senior state and tribal leaders, increase outreach to all 50 states and some 560 federally recognized tribes, and vigorously seek ways to engage the states and tribes in ongoing substantive discussions on complex and oftentimes controversial environmental issues that states and tribes resolve at their respective levels of government.

In January 2002, the Environmental Council of the States (ECOS), in cooperation with the National Tribal Environmental Council (NTEC), was awarded the new FOSTTA cooperative agreement. ECOS, NTEC, and EPA's Office of Pollution Prevention and Toxics (OPPT) are co-sponsoring the meetings. As part of a cooperative agreement, ECOS facilitates ongoing efforts of the state and tribal leaders and OPPT to increase understanding and improve collaboration on toxics and pollution prevention issues and to continue a dialogue on how federal environmental programs can best be implemented among the states, tribes, and EPA.

The fall FOSTTA meeting is scheduled October 21-22, 2002.

III. Purpose of Meeting

The FOSTTA representatives and EPA will collaborate on environmental protection and chemical and prevention issues. The tentative agenda items identified by the states and the tribes follow:

1. Pilot project ideas for interfacing environment and public health (CIMP).

2. How to integrate the High Production Volume Challenge Program/Voluntary Children's Chemical Evaluation Program data with existing tools (e.g., risk screening environmental indicators) (CIMP).

3. The cumulative risk exposure initiative (CIMP).

4. Future directions for pollution prevention incentives for state grant programs (P2).

5. Pollution prevention and compliance assistance (P2).

6. Tribal risk assessment (TAP).

7. Tribal science council (TAP).

During the first half hour of the plenary session, ECOS and NTEC will discuss their plans for interacting with FOSTTA. At the remainder of the plenary, another topic of mutual interest to the approximately 30 state and tribal leaders will be discussed.

List of Subjects

Environmental protection, Chemicals, Pollution prevention.

Dated: March 27, 2002.
Barbara Cunningham,
Acting Director, Environmental Assistance Division, Office of Pollution Prevention and Toxics.

[FR Doc. 02-8421 Filed 4-9-02; 8:45 am]

BILLING CODE 6560-50-S